DEPARTMENT OF VETERANS AFFAIRS

Veterans' Disability Benefits Commission; Notice of Meeting Amendment

The Department of Veterans Affairs (VA) gives notice under Public Law 92-4463 (Federal Advisory Committee Act) that the Veterans' Disability Benefits Commission has changed the location of its meeting scheduled on August 26, 2005, to the Hamilton Crowne Plaza Hotel, Hamilton Ballroom on the lower level, 1001 14th Street, NW., Washington, DC 20005. The meeting will not be held at the Shriners Almas Temple (adjacent to the Hamilton Crowne Plaza Hotel), 1315 K Street, NW., Washington, DC 20005. The meeting will begin at 8:30 a.m. and conclude at 4:30 p.m. and is open to the public.

The purpose of the Commission is to carry out a study of the benefits under the laws of the United States that are provided to compensate and assist veterans and their survivors for disabilities and deaths attributable to military service.

On August 26, 2005, the Commission will engage in panel discussions with current and former employees of the Department of Veterans Affairs, the Department of Defense, and the House Committees on Armed Services and Veterans' Affairs with knowledge and expertise in programs to assist and compensate disabled retirees and veterans and their survivors. The agenda will also include briefings by the Department of Veterans Affairs and the Department of Defense to provide the Commission with an understanding of programs to intervene, diagnose, treat, and assess post-traumatic stress disorder (PTSD).

Interested persons may attend and present oral statements to the Commission. Interested parties may provide written comments for review by the Commission at any time to Mr. Ray Wilburn, Executive Director, Veterans' Disability Benefits Commission, 1101 Pennsylvania Avenue, NW., 5th Floor, Washington, DC 20004, or by e-mail at vetscommission@va.gov. Information on the Commission may be found at http://www.va.gov/vetscommission.

Dated: August 18, 2005.
E. Philip Riggin,
Committee Management Officer.

[FR Doc. 05-16759 Filed 8-23-05; 8:45 am]

BILLING CODE 8320-01-M